ENVIRONMENTAL PROTECTION AGENCY

40 CFR Part 52

[CA 275-0378d; FRL-7483-3]

Revisions to the California State Implementation Plan, Bay Area Air Quality Management District, Sacramento Metropolitan Air Quality Management District, and San Joaquin Valley Unified Air Pollution Control District; Proposed Rule; Correction

AGENCY: Environmental Protection Agency (EPA).

ACTION: Proposed rule; correction.

SUMMARY: This document corrects preamble errors in the March 24, 2003 notice of proposed rulemaking pertaining to revisions of local gasoline tank vapor recovery rules in the Bay Area Air Quality Management District, Sacramento Metropolitan Air Quality Management District, and San Joaquin Valley Unified Air Pollution Control District portions of the California State Implementation Plan.

FOR FURTHER INFORMATION CONTACT: Al Petersen, EPA Region IX, (415) 947-4118.

SUPPLEMENTARY INFORMATION: On March 24, 2003 (68 FR 14174), EPA proposed revisions to local gasoline tank vapor recovery rules in the Bay Area Air Quality Management District, Sacramento Metropolitan Air Quality Management District, and San Joaquin Valley Unified Air Pollution Control District portions of the California State Implementation Plan. The notice of proposed rulemaking accurately identified the rules being revised in the SUPPLEMENTARY INFORMATION portion of the notice, but incorrectly referenced Imperial County and Monterey County Air Pollution Control Districts in the title and summary of the rule.

The correct title for the March 24, 2003 notice should read, “Revisions to the California State Implementation Plan, Bay Area Air Quality Management District, Sacramento Metropolitan Air Quality Management District, and San Joaquin Valley Unified Air Pollution Control District.”

The Summary section should read:

SUMMARY: EPA is proposing to approve revisions to Bay Area Air Quality Management District (BAAQMD), Sacramento Metropolitan Air Quality Management District (SMAQMD), and San Joaquin Valley Unified Air Pollution Control District (SJVUAPCD) portions of the California State Implementation Plan (SIP). The BAAQMD revision concerns the emission of volatile organic compounds (VOCs) from the transfer of gasoline to stationary storage tanks and motor vehicle fuel tanks. The SMAQMD and SJVUAPCD revisions concern the emission of VOCs from the transfer of gasoline to motor vehicle fuel tanks. We are proposing approval of local rules that regulate these emission sources under the Clean Air Act as amended in 1990 (CAA or the Act).

Today's notice does not otherwise change the remaining portions of the March 24, 2003 notice of proposed rulemaking.

Dated: April 3, 2003.
Alexis Strauss,
Acting Regional Administrator, Region IX.

[FR Doc. 03-9208 Filed 4-14-03; 8:45 am]

BILLING CODE 6560-50-P